POSTAL REGULATORY COMMISSION

39 CFR 3055

[Docket No. RM2010-11; Order No. 481]

Periodic Reporting Exceptions

AGENCY: Postal Regulatory Commission.

ACTION: Notice of proposed rulemaking.

SUMMARY: The Commission is establishing a docket for consideration of matters related to Postal Service-proposed semi-permanent exceptions to certain rules on periodic reporting of service performance measurement.

DATES: Comments are due: July 16, 2010.

ADDRESSES: Submit comments electronically via the Commission's Filing Online system at http://www.prc.gov. Commenters who cannot submit their views electronically should contact the person identified in the FOR FURTHER INFORMATION CONTACT section by telephone for advice on alternatives to electronic filing.

FOR FURTHER INFORMATION CONTACT: Stephen L. Sharfman, General Counsel, at 202-789-6820 or stephen.sharfman@prc.gov.

SUPPLEMENTARY INFORMATION:

Table of Contents

I. Introduction

II. Ordering Paragraphs

I. Introduction

On June 25, 2010, the Postal Service filed a request for semi-permanent exceptions from periodic reporting of service performance measurement for various market dominant postal services, or components of postal services, pursuant to Commission Order No. 465 and 39 CFR 3055.3.¹

¹ United States Postal Service Response to Order No. 465 and Request for Semi-Permanent Exceptions from Periodic Reporting of Service Performance Measurement, June 25, 2010 (Request); see also Order Establishing Final Rules Concerning Periodic Reporting of Service Performance Measurements and Customer Satisfaction, May 25, 2010, at 22 (Order No. 465).

Rule 3055.3 provides the Postal Service an opportunity to request that a product, or component of a product, be excluded from service performance measurement reporting upon demonstration that:(1) The cost of implementing a measurement system would be prohibitive in relation to the revenue generated by the product, or component of a product;(2) the product, or component of a product, defies meaningful measurement; or(3) the product, or component of a product, is in the form of a negotiated service agreement with substantially all components of the agreement included in the measurement of other products.

The Postal Service seeks semi-permanent exceptions for Standard Mail High Density, Saturation, and Carrier Route Parcels, Inbound International Surface Parcel Post (at UPU Rates), hard-copy Address Correction Service, various Special Services, Within County Periodicals, and various negotiated service agreements. Request at 1.

The Commission establishes Docket No. RM2010-11 for consideration of matters related to the proposed semi-permanent exceptions from periodic reporting of service performance measurement identified in the Postal Service's Request.

Interested persons may submit comments on whether the Postal Service's Request is consistent with the policies of 39 U.S.C. 3652(a)(2) and 39 CFR 3055.3. Comments are due no later than July 16, 2010. The Postal Service's Request can be accessed via the Commission's Web site (http://www.prc.gov).

The Commission appoints Emmett Rand Costich to serve as Public Representative in the captioned proceedings.

II. Ordering Paragraphs

It is ordered:

1. The Commission establishes Docket No. RM2010-11 for consideration of matters raised by the Postal Service's Request.

2. Comments by interested persons in these proceedings are due no later than July 16, 2010.

3. Pursuant to 39 U.S.C. 505, Emmett Rand Costich is appointed to serve as the officer of the Commission (Public Representative) to represent the interests of the general public in these proceedings.

4. The Secretary shall arrange for publication of this order in the Federal Register.

By the Commission.
Shoshana M. Grove,
Secretary.

[FR Doc. 2010-16304 Filed 7-2-10; 8:45 am]

BILLING CODE 7710-FW-S